DEPARTMENT OF EDUCATION

[CFDA No.: 84.297A]

Office of Elementary and Secondary Education-School Improvement Programs; The Native Hawaiian Curriculum Development, Teacher Training and Recruitment Program

AGENCY: Department of Education.

ACTION: Notice inviting applications for new awards for fiscal year (FY) 2000.

Purposes of Program: The Native Hawaiian Curriculum Development, Teacher Training and Recruitment Program supports—

(1) Curricula Development—the development of curricula to address the needs of Native Hawaiian students, particularly elementary and secondary students, which may include programs of instruction conducted in the Native Hawaiian language and mathematics and science curricula incorporating the relevant application of Native Hawaiian culture and traditions;

(2) Preteacher Training—the development and implementation of preservice teacher training to ensure that student teachers within the State, particularly those who are likely to be employed in schools with a high concentration of Native Hawaiian students, are prepared to better address the unique needs of Native Hawaiian students within the context of Native Hawaiian culture, language, and traditions;

(3) Inservice Teacher Training—the development and implementation of inservice teacher training to ensure that teachers, particularly those employed in schools with a high concentration of Native Hawaiian students, are prepared to better address the unique needs of Native Hawaiian students within the context of Native Hawaiian culture, language, and traditions; and

(4) Teacher Recruitment—the development and implementation of teacher recruitment programs to enhance teacher recruitment within communities with a high concentration of Native Hawaiian students and to increase the numbers of teachers who are of Native Hawaiian ancestry.

Consistent with these statutory purposes, the Secretary has established absolute priorities (published elsewhere in this issue of the Federal Register) that will govern the distribution of funds under the program.

Eligible Applicants: Native Hawaiian educational organizations or educational entities with experience in developing or operating Native Hawaiian programs or programs of instruction conducted in the Native Hawaiian language.

Applications Available: June 14, 2000.

Deadline for Transmittal of Applications: July 14, 2000.

Deadline for Intergovernmental Review: September 14, 2000.

Available Funds: $2,600,000.

Estimated Number of Awards: 7.

Estimated Size of Awards: $371,429.

Estimated Range of Awards: $50,000—$400,000.

Note: These estimates are projections for the guidance of potential applicants. The Department is not bound by any estimates in this notice.

Project Period: Up to 36 months.

Applicable Regulations: The Education Department General Administrative Regulations (EDGAR) in 34 CFR Parts 74, 75, 77, 79, 80, 81, 82, 85, 86, 97, 98, and 99.

Absolute Priorities: The Secretary has published elsewhere in this issue of the Federal Register a notice of final priorities, which establishes absolute priorities in the following areas under the Curriculum Development, Teacher Training and Recruitment Program: (1) Computer literacy and technology education; (2) agriculture education partnerships; (3) astronomy; (4) indigenous health; (5) waste management; (6) prisoner education; and (7) marine resource management.

Under 34 CFR 75.105(c)(3), the Secretary will fund under this competition only applications that focus entirely on activities in one of the seven absolute priorities.

Statutory Priorities: In accordance with section 9209(b) of the Elementary and Secondary Education Act, the Secretary gives priority to awarding grants for activities that—

(1) Focus on the needs of at-risk youth; or

(2) Employ a program of instruction conducted in the Native Hawaiian language.

These statutory priorities are included in the selection criteria for this competition.

SUPPLEMENTARY INFORMATION: Applications will be reviewed on the basis of the selection criteria included in this notice. All funded projects must meet one of the absolute priorities. While applicants have discretion in determining how best to address the absolute priorities, the Secretary is particularly interested in receiving quality proposals that include the components described below. Funded proposals may lack some of these specific components, but must then address the absolute priorities in other effective ways.

(1) Computer literacy and technology education. While computer skills have become increasingly necessary for both academic and employment success in today's society, many Native Hawaiian students lack meaningful access to computers and computer training. The Secretary believes that high-quality computer literacy and technology education programs should be conducted for Native Hawaiian elementary and secondary school students. These model programs should consist of curricula development, teacher training, and programs of instruction designed to increase both academic and career opportunities for elementary and secondary students. In providing these services, eligible entities are encouraged to partner with other organizations or institutions with expertise in utilizing state-of-the-art centralized computer systems and teleconferencing capabilities.

(2) Agriculture education partnerships. In order to improve the economic and social conditions in many rural areas of Hawaii, the Secretary supports the expansion of partnerships between community-based agricultural businesses and high schools with high concentrations of Native Hawaiian students. These agriculture education partnerships would integrate agricultural and business practices into high school curricula through model programs involving curricula development, teacher training, and instructional programs.

(3) Astronomy. The Secretary believes that the development of instructional programs for elementary and secondary school students in astronomy would assist Native Hawaiians in reaching challenging science and mathematics standards. Model programs would include the development of culturally appropriate advanced mathematics and science curricula based upon recent scientific findings in the field of astronomy. Exposure to the use of observatory and other astronomical equipment as well as other experiential and hands-on activities would be fostered through such programs.

(4) Indigenous health programs. Because of a lack of available instruction in Native Hawaiian traditional medicine, knowledge of traditional healing practices is being lost for younger generations of Native Hawaiians. Younger Native Hawaiians are not being trained adequately, for example, on where traditional medicines can be found, how they can be harvested in a manner that will conserve the resource, and how such medicines are to be applied. The Secretary believes that this problem can be addressed through the support of teacher training, curriculum development, and instructional activities in traditional medicine.

(5) Prisoner education. In Hawaii, the number of incarcerated Native Hawaiians, including Native Hawaiian juveniles, far exceeds their relative percentage of the State's population. The Secretary believes that a successful prisoner education program would target convicted, at-risk Native Hawaiian youths as an alternative to incarceration. A comprehensive program should consist of prevention, intervention, and treatment services as well as education, job training, judicial, and case management services. A funded applicant should have experience in working with, and in encouraging the re-integration of, youth offenders into schools or career paths or both within the community in a culturally sensitive manner. To help ensure success of the program, funded applicants should work in partnership with the Hawaii State Department of Labor and Industrial Relations, the Office of Youth Services, or other appropriate agencies.

(6) Waste management treatment programs. Funds under this priority support curriculum development, teaching training, and instructional programs related to the study and documentation of traditional Hawaiian practices of sustainable waste management, including activities to prepare Native Hawaiians to participate actively in the risk assessment and remediation of environmental health hazards that affect Native Hawaiians. A successful applicant should have specific knowledge of the capacities of Native Hawaiian plants and animals to contribute to the management of modern waste materials. The applicant should have experience in educational programming, especially for elementary and secondary school grades, so that knowledge about traditional Hawaiian methods of sustainable waste management can be developed and used. The project may include an emphasis on environmental technologies applicable to the remediation of environmental health risks in Hawaiian homelands and in surplus Federal lands subject to reuse.

(7) Marine resource management. To support programs designed to teach Native Hawaiian elementary and secondary students about traditional fishery management techniques used in the Native Hawaiian culture.

Selection Criteria: The Secretary will use the following selection criteria in 34 CFR 75.210 to evaluate applications under each of the competitions in the notice. (The specific selection criteria and factors that will be used in evaluating applications are detailed in the application package). The maximum score for all of the selection criteria is 100 points. The maximum points for each criterion is as follows:

(a) Significance—15 points.

(a) Quality of Project Design—35 points.

(b) Quality of Project Personnel—10 points.

(c) Adequacy of Resources—5 points.

(d) Quality of Management Plan—15 points.

(e) Quality of the Project Evaluation—20 points.

For Applications and Information Contact: Mrs. Lynn Thomas, U.S. Department of Education, 400 Maryland Avenue, SW., FOB6, Room 3C124, Mail Stop 6140, Washington, DC 20202. Telephone 202-260-1541. The e-mail address for Mrs. Thomas is: lynn_thomas@ed.gov.

If you use a telecommunications device for the deaf (TDD) you may call the Federal Information Relay Service (FIRS) at 1-800-877-8339.

Individuals with disabilities may obtain this document in an alternative format (e.g., Braille, large print, audiotape, or computer diskette) on request to the contact person listed in the preceding paragraph.

Individuals with disabilities may obtain a copy of the application package in an alternative format, also, by contacting that person. However, the Department is not able to reproduce in an alternative format the standard forms included in the application package.

Electronic Access to This Document

You may review this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have any questions about using PDF, call the U.S. Government Printing Office, toll free at 1-888-293-6498; or in the Washington, DC area at (202) 512-1530.

Note: The official version of this document is the document published in the Federal Register. Free Internet access to the official edition of the Federal Register and the Code of Federal Domestic Regulations is available on GPO Access at: http://www.access.gpo.gov/nara/index.html

Dated: June 12, 2000.
Michael Cohen,
Assistant Secretary for Elementary and Secondary Education.

[FR Doc. 00-15248 Filed 6-14-00; 8:45 am]

BILLING CODE 4000-01-U